DEPARTMENT OF COMMERCE

National Oceanic and Atmospheric Administration

50 CFR Part 300

[Docket No. 250620-0102]

RIN 0648-BN54

Pacific Halibut Fisheries of the West Coast; Management Measures for the Area 2A Pacific Halibut Directed Commercial Fishery

AGENCY: National Marine Fisheries Service (NMFS), National Oceanic and Atmospheric Administration (NOAA), Commerce.

ACTION: Final rule.

SUMMARY: NMFS is implementing annual management measures for the 2025 non-Tribal directed commercial Pacific halibut fishery that operates south of Point Chehalis, WA, (lat. 46°53.30′ N) in the International Pacific Halibut Commission's (IPHC) regulatory Area 2A off Washington, Oregon, and California. Annual management measures include fishing periods and fishing period limits. NMFS is also implementing modified permit deadlines for all Area 2A non-Tribal commercial fisheries and is modifying inseason action announcement procedures for the Area 2A non-Tribal directed commercial fishery. These actions are intended to conserve Pacific halibut and provide fishing opportunity where available.

DATES: This rule is effective on June 24, 2025.

FOR FURTHER INFORMATION CONTACT: Heather Fitch, West Coast Region, NMFS, (360) 867-8608, heather.fitch@noaa.gov.

SUPPLEMENTARY INFORMATION:

Background

The Northern Pacific Halibut Act of 1982 (16 U.S.C. 773-773k) (Halibut Act) gives the Secretary of Commerce the responsibility of implementing the provisions of the Convention between Canada and the United States for the Preservation of the Halibut Fishery of the North Pacific Ocean and Bering Sea (Convention), signed at Ottawa, Ontario, on March 2, 1953, as amended by a Protocol Amending the Convention (March 29, 1979).

As provided in the Halibut Act at 16 U.S.C. 773b, the Secretary of State, with the concurrence of the Secretary of Commerce, may accept or reject, on behalf of the United States, regulations recommended by the IPHC in accordance with the Convention. Following acceptance by the Secretary of State, the annual management measures recommended by the IPHC are published in the Federal Register through a NMFS rulemaking to provide notice of their immediate regulatory effectiveness and to inform persons subject to the regulations of their restrictions and requirements (50 CFR 300.62).

The Halibut Act also provides that Regional Fishery Management Councils may develop and recommend, and the Secretary of Commerce may implement, regulations governing Pacific halibut fishing in U.S. waters that are in addition to, and not in conflict with, approved IPHC regulations (16 U.S.C. 773c(c)). The Pacific Fishery Management Council (Council) developed a catch sharing plan guiding the allocation of halibut across the various sectors for the IPHC's regulatory Area 2A. The catch sharing plan is available on the Council's website at: https://www.pcouncil.org/managed_fishery/pacific-halibut/.

Fishery Allocation

At its annual meeting held January 27-31, 2025, the IPHC adopted an Area 2A catch limit, called a fishery constant exploitation yield (FCEY), of 1.53 million pounds (694 metric tons (mt)), net weight (i.e., the weight of Pacific halibut that is without gills and entrails, head-off, washed, and without ice and slime) for 2025. The FCEY was derived from the total constant exploitation yield (TCEY) of 1.65 million pounds (748 mt), net weight, for Area 2A, which includes commercial discards and bycatch projections calculated using a formula developed by the IPHC. Based on the FCEY for Area 2A and the allocation framework in the Council's catch sharing plan, the non-Tribal directed commercial fishing allocation is 259,515 pounds (118 mt), net weight for the 2025 fishing season (90 FR 13293, March 21, 2025).

This final rule implements management measures for the 2025 directed commercial Pacific halibut fishery in Area 2A that are not part of the annual IPHC regulations. This final rule adopts, without changes, the management measures from the proposed rule published on April 8, 2025 (90 FR 15129).

Fishing Periods

Fishing periods, often referred to as fishery openers, are the time during the annual commercial Pacific halibut season when fishing for non-Tribal directed commercial Pacific halibut in Area 2A is allowed. This action implements two fishing periods. The first 58-hour fishing period for the 2025 directed commercial fishery will begin on June 24, 2025, at 8 a.m. PDT and close on June 26, 2025, at 6 p.m. PDT. The second fishing period will occur 2 weeks later, beginning on July 8, 2025, at 8 a.m. PDT and closing on July 10, 2025, at 6 p.m. PDT. If another fishing period is necessary to attain the allocation, NMFS intends to open a third fishing period on July 22, 2025 at 8 a.m. PDT and closing on July 24, 2025 at 6 p.m. PDT, through inseason action. If subsequent fishing periods are necessary to reach the allocation, NMFS intends to have them follow the same pattern, occurring 2 weeks after the previous fishing period (beginning on August 5, August 12, etc.), as announced by inseason action. If it is determined that additional fishing periods are warranted, and if for any reason a fishing period cannot be scheduled on this two-week schedule, NMFS intends to skip a fishing period in order to follow the outlined every two-week schedule. NMFS will use email addresses obtained from 2025 Pacific halibut directed commercial fishery permit applications for email notice of inseason actions. Fishing periods may be added inseason consistent with 50 CFR 300.63(e)(1)(iii).

Fishing Period Limits

A fishing period limit, also called a vessel catch limit, is the maximum amount of Pacific halibut that may be retained and landed by a vessel during one fishing period. Each vessel may retain no more than the fishing period limit of Pacific halibut for its vessel class, which is determined by vessel length. NMFS is implementing the directed commercial fishing period limits, shown in table 1 below, for the first 2 fishing periods.

Fishing period limits are intended to ensure that the Area 2A directed commercial fishery does not exceed its allocation, while also providing fair and equitable access across participants to an attainable amount of harvest.

If NMFS determines that more than two fishing periods are warranted, NMFS will set the fishing period limits for subsequent fishing periods equal across all vessel classes through inseason action consistent with 50 CFR 300.63(e)(1)(iii).

Table 1—Fishing Period Limits by Size Class for the 2025 First and Second Fishing Periods of the Area 2A Pacific Halibut Non-Tribal Directed Commercial Fishery
Vessel class | Length range in feet (meters) | Fishing period limit in pounds (mt)
A | 1-25 (0.3-7.8) | 2,000 (0.907)
B | 26-30 (7.9-9.3) | 2,000 (0.907)
C | 31-35 (9.4-10.9) | 2,000 (0.907)
D | 36-40 (11.0-12.4) | 3,400 (1.542)
E | 41-45 (12.5-13.9) | 3,400 (1.542)
F | 46-50 (14.0-15.4) | 4,300 (1.950)
G | 51-55 (15.5-16.9) | 4,300 (1.950)
H | 56+ (17.0+) | 5,000 (2.268)
Notes: Fishing period limits are in dressed weight (head-on, with ice and slime). If a vessel's size is between lengths, its length will be rounded up for the purpose of fishing period limits.

Inseason Action Announcement Procedures

This action adds email as a means to notify the affected public of an inseason action. Inseason actions will also be published in the Federal Register and will appear on the NMFS website. Inseason actions will be effective upon the date and time of either the receipt of notice by the direct email or publication in the Federal Register, whichever occurs first.

Permit Deadlines

Permits are required for all vessels participating in the Area 2A non-Tribal commercial directed and incidental Pacific halibut fisheries. Vessels may not be permitted for both the Pacific halibut fishery incidental to salmon troll and the directed commercial Pacific halibut fishery. This action implements a March 15 permit deadline for all Area 2A non-Tribal commercial Pacific halibut fisheries.

Comments

NMFS published a proposed rule on April 8, 2025 (90 FR 15129) and accepted public comments on the 2025 Area 2A Pacific halibut directed commercial fishery annual management measures through May 8, 2025. NMFS received one public comment. The comment spoke generally in support of an annual management plan; however, it is not clear that the comment is responsive to this rulemaking and the comment did not call for any changes from the proposed rule. No comments in opposition to this action were received.

Classification

Regulations governing the U.S. fisheries for Pacific halibut are developed by the IPHC, the Council, the North Pacific Fishery Management Council, and the Secretary of Commerce. Section 5 Halibut Act (16 U.S.C. 773c) allows the Regional Council having authority for a particular geographical area to develop regulations governing the allocation and catch of halibut in U.S. Convention waters as long as those regulations do not conflict with IPHC regulations. Those regulations may only be implemented with the approval of the Secretary of Commerce. Through this action, NMFS approves and implements the Council's recommendations. Accordingly, this action is consistent with both the Council's role and NMFS's authority to regulate the halibut fishery in waters off Washington, Oregon, and California.

There is good cause under 5 U.S.C. 553(d)(3) to waive the 30-day delay in effective date in order to open the Area 2A non-Tribal directed Pacific halibut commercial fishery by June 24, 2025. This rule implements Area 2A non-Tribal commercial fishery management measures as published in the proposed rule (90 FR 15129; April 8, 2025), and based on Council recommendations, following a public Council process. The non-Tribal directed commercial Pacific halibut fishery had 97 vessels participate in 2024, and similar participation is expected in 2025. A delay in the effectiveness of these measures would result in the Area 2A Pacific halibut non-Tribal directed commercial fishery not being opened on its intended timeline and, thus, the fishery not being open on the dates that the affected public is expecting. Business decisions have likely been made surrounding this fishery opening date. A delay could cause economic harm to fishery participants and fishing communities, and would be contrary to public interest. The management measures were discussed at multiple Council meetings in 2024, which are open to the public and where public comment was accepted. Additionally, NMFS has determined that this rule qualifies for a waiver of the 30-day delay in effective date pursuant to 5 U.S.C. 553(d)(1) because participants would otherwise be unable to fish on the expected dates.

NMFS received one comment in response to the proposed rule. The comment provided general support of an annual management plan; however, it does not appear responsive to this rulemaking and the comment did not call for changes from the proposed rule. No changes were made in response to that comment.

This final rule has been determined to be not significant for purposes of Executive Order (E.O.) 12866. This final rule is not an E.O. 14192 regulatory action because this action is not significant under E.O. 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

The Chief Counsel for Regulation of the Department of Commerce certified to the Chief Counsel for Advocacy of the Small Business Administration during the proposed rule stage that this action would not have a significant economic impact on a substantial number of small entities for purposes of the Regulatory Flexibility Act. The factual basis for the certification was published in the proposed rule and is not repeated here. NMFS received one comment in response to the proposed rule, which did not address the certification. As a result, a regulatory flexibility analysis was not required for this action and none was prepared.

This final rule contains no new information collection requirements under the Paperwork Reduction Act of 1995 (44 U.S.C. 3501 et seq.).

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: June 20, 2025.
Samuel D. Rauch, III,
Deputy Assistant Administrator for Regulatory Programs, National Marine Fisheries Service.

For the reasons set out in the preamble, NMFS amends 50 CFR part 300, subpart E, as follows:

PART 300—INTERNATIONAL FISHERIES REGULATIONS

Subpart E—Pacific Halibut Fisheries

1. The authority citation for part 300, subpart E, continues to read as follows:

Authority: 16 U.S.C. 773-773k.

2. In § 300.63, revise paragraphs (d)(2)(ii)(A) and (B), (e)(1)(iii), and (e)(2)(i), to read as follows:

§ 300.63 Catch sharing plan and domestic management measures in Area 2A.

* * * * *

(d) * * *

(2) * * *

(ii) * * *

(A) Applications for permits for the directed commercial fishery in Area 2A must be received by NMFS no later than 2359 PDT on March 15, or by 2359 PDT the next business day in March if March 15 is a Saturday, Sunday, or Federal holiday.

(B) Applications for permits that allow for incidental catch of Pacific halibut during the salmon troll fishery or the sablefish primary fishery in Area 2A must be received by NMFS no later than 2359 PDT March 15, or by 2359 PDT the next business day in March if March 15 is a Saturday, Sunday, or Federal holiday.

* * * * *

(e) * * *

(1) * * *

(iii) Inseason action to add fishing periods and associated fishing period limits. Fishing periods in addition to those originally implemented at the start of the fishing year may be warranted in order to provide the fishery with opportunity to achieve the Area 2A directed commercial fishery allocation, if performance of the fishery during the initial fishing period(s) is different than expected and the directed commercial allocation is not attained through the initial period(s). If NMFS makes the determination that sufficient allocation remains to warrant additional fishing period(s) without exceeding the allocation for the Area 2A directed commercial fishery, the additional fishing period(s) and fishing period limits may be added during the fishing year. If NMFS determines fishing period(s) in addition to those included in an annual management measures rule is warranted, NMFS will send an email with notification of the inseason action to affected permit holders. This action will also be published in the Federal Register as soon as practicable. The inseason action will be effective upon the earlier of either receipt of email of such notification, or publication in the Federal Register. If the amount of directed commercial allocation remaining is determined to be insufficient for an additional fishing period, the allocation is considered to be taken and the fishery will be closed, as described at paragraph (e)(2) of this section.

(2) * * *

(i) If NMFS determines that the non-Tribal directed commercial fishery has attained its annual allocation or is projected to attain its allocation if additional fishing was to be allowed, the Regional Administrator will take automatic action to close the fishery via email to affected permit holders and announcement in the Federal Register. Automatic closure of the non-Tribal directed commercial fishery will be effective upon the earlier of either: receipt of email of such notification, or publication in the Federal Register.

* * * * *

[FR Doc. 2025-11654 Filed 6-24-25; 8:45 am]

BILLING CODE 3510-22-P